DEPARTMENT OF ENERGY

Federal Energy Regulatory Commission

Combined Notice of Filings #1

Take notice that the Commission received the following exempt wholesale generator filings:

Docket Numbers: EG19-90-000.

Applicants: Mesteno Windpower, LLC.

Description: Self-Certification of Exempt Wholesale Generator Status of Mesteno Windpower, LLC.

Filed Date: 4/11/19.

Accession Number: 20190411-5049.

Comments Due: 5 p.m. ET 5/2/19.

Docket Numbers: EG19-91-000.

Applicants: Kawailoa Solar, LLC.

Description: Notice of Self-Certification of Exempt Wholesale Generator Status.

Filed Date: 4/11/19.

Accession Number: 20190411-5108.

Comments Due: 5 p.m. ET 5/2/19.

Take notice that the Commission received the following electric rate filings:

Docket Numbers: ER10-2437-012.

Applicants: Arizona Public Service Company.

Description: Additional Supplement to December 28, 2018 Triennial Market Power Update of Arizona Public Service Company.

Filed Date: 4/11/19.

Accession Number: 20190411-5113.

Comments Due: 5 p.m. ET 5/2/19.

Docket Numbers: ER19-610-000.

Applicants: Marengo Battery Storage, LLC.

Description: Second Supplement to December 20, 2018 Marengo Battery Storage, LLC tariff filing.

Filed Date: 4/10/19.

Accession Number: 20190410-5246.

Comments Due: 5 p.m. ET 4/17/19.

Docket Numbers: ER19-871-000.

Applicants: Southwestern Electric Power Company.

Description: Report Filing: SWEPCO-ETEC Contracting Services Agrs. Refund Report to be effective N/A.

Filed Date: 4/11/19.

Accession Number: 20190411-5123.

Comments Due: 5 p.m. ET 5/2/19.

Docket Numbers: ER19-1548-000.

Applicants: Pacific Gas and Electric Company.

Description: § 205(d) Rate Filing: E&P Agreement for EDPR CA Solar Park to be effective 4/11/2019.

Filed Date: 4/10/19.

Accession Number: 20190410-5161.

Comments Due: 5 p.m. ET 5/1/19.

Docket Numbers: ER19-1549-000.

Applicants: Midcontinent Independent System Operator, Inc., Ameren Illinois Company.

Description: § 205(d) Rate Filing: 2019-04-10_SA 2880 Att A-Project Specifications No. 3 WVPA-EnerStar-Ferrell to be effective 3/18/2019.

Filed Date: 4/10/19.

Accession Number: 20190410-5177.

Comments Due: 5 p.m. ET 5/1/19.

Docket Numbers: ER19-1550-000.

Applicants: New England Power Pool Participants Committee, ISO New England Inc.

Description: § 205(d) Rate Filing: Lotus Danbury One Termination to be effective 6/10/2019.

Filed Date: 4/10/19.

Accession Number: 20190410-5200.

Comments Due: 5 p.m. ET 5/1/19.

Docket Numbers: ER19-1551-000.

Applicants: Old Dominion Electric Cooperative.

Description: § 205(d) Rate Filing: Superseding Cost-of-Service Rate Schedule to be effective 6/10/2019.

Filed Date: 4/10/19.

Accession Number: 20190410-5201.

Comments Due: 5 p.m. ET 5/1/19.

Docket Numbers: ER19-1552-000.

Applicants: Pacific Gas and Electric Company.

Description: Notice of Termination of Small Generator Interconnection Agreement (No. 404) of Pacific Gas and Electric Company.

Filed Date: 4/10/19.

Accession Number: 20190410-5204.

Comments Due: 5 p.m. ET 5/1/19.

Docket Numbers: ER19-1553-000.

Applicants: Southern California Edison Company.

Description: § 205(d) Rate Filing: SCE Transmission Owner Tariff Formula Rate Filing (TO2019A) to be effective 6/12/2019.

Filed Date: 4/11/19.

Accession Number: 20190411-5001.

Comments Due: 5 p.m. ET 5/2/19.

Docket Numbers: ER19-1554-000.

Applicants: Southwest Power Pool, Inc.

Description: § 205(d) Rate Filing: 3548 Rolling Thunder I Power Partners GIA to be effective 4/4/2019.

Filed Date: 4/11/19.

Accession Number: 20190411-5021.

Comments Due: 5 p.m. ET 5/2/19.

Docket Numbers: ER19-1555-000.

Applicants: Mt. Tom Generating Company, LLC.

Description: Tariff Cancellation: Notice of Cancellation of FERC Electric Tariff, Volume No. 1 to be effective 4/12/2019.

Filed Date: 4/11/19.

Accession Number: 20190411-5037.

Comments Due: 5 p.m. ET 5/2/19.

Docket Numbers: ER19-1556-000.

Applicants: Arizona Public Service Company.

Description: § 205(d) Rate Filing: Market-Based Rate Tariff Revision to be effective 6/11/2019.

Filed Date: 4/11/19.

Accession Number: 20190411-5060.

Comments Due: 5 p.m. ET 5/2/19.

Docket Numbers: ER19-1557-000.

Applicants: NorthWestern Corporation.

Description: Tariff Cancellation: Cancellation of LGIA with Rolling Thunder I Power Partners LLC, SA 30-SD to be effective 4/4/2019.

Filed Date: 4/11/19.

Accession Number: 20190411-5061.

Comments Due: 5 p.m. ET 5/2/19.

Docket Numbers: ER19-1558-000.

Applicants: Midcontinent Independent System Operator, Inc.

Description: § 205(d) Rate Filing: 2019-04-11_SA 3291 Duke Energy-Roaming Bison Renewables GIA (J754) to be effective 3/28/2019.

Filed Date: 4/11/19.

Accession Number: 20190411-5081.

Comments Due: 5 p.m. ET 5/2/19.

Docket Numbers: ER19-1559-000.

Applicants: AEP Texas Inc.

Description: § 205(d) Rate Filing: AEPTX-Sharyland Utilities IA Second Amend & Restated to be effective 3/27/2019.

Filed Date: 4/11/19.

Accession Number: 20190411-5104.

Comments Due: 5 p.m. ET 5/2/19.

Docket Numbers: ER19-1560-000.

Applicants: AEP Texas Inc.

Description: § 205(d) Rate Filing: TNC-Sharyland Utilities Interconnection Agreement to be effective 3/27/2019.

Filed Date: 4/11/19.

Accession Number: 20190411-5110.

Comments Due: 5 p.m. ET 5/2/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 11, 2019.
Nathaniel J. Davis, Sr.,
Deputy Secretary.

[FR Doc. 2019-07717 Filed 4-16-19; 8:45 am]

BILLING CODE 6717-01-P